DEPARTMENT OF EDUCATION

Secretary of Education's Commission on Opportunity in Athletics; Meeting

AGENCY: Secretary of Education's Commission on Opportunity in Athletics, Department of Education.

ACTION: Notice of open meeting; correction.

SUMMARY: This notice corrects the notice of meeting of the Secretary of Education's Commission on Opportunity in Athletics (the Commission) published on January 8, 2003 (68 FR 1051). The location of the meeting has been changed. All other information in the January 8 notice remains the same.

Notice of this meeting is required under Section 10(a)(2) of the Federal Advisory Committee Act.

DATES: January 29-30, 2003.

Location: The new location of the meeting is the Hotel Washington, 515 15th Street, NW., Washington, DC 20004.

Times: January 29: 9 a.m.-12:30 p.m., 2 p.m.-5 p.m. January 30: 9 a.m.-1 p.m.

FOR FURTHER INFORMATION CONTACT: 1. Internet. We encourage you to send your questions through the Internet to the following address: OpportunityinAthletics@ed.gov.

2. Mail. You may submit your comments to The Secretary of Education's Commission on Opportunity in Athletics, 400 Maryland Avenue, SW., ROB-3 Room 3060, Washington, DC 20202. Due to delays in mail delivery caused by heightened security, please allow adequate time for the mail to be received.

3. Facsimile. You may submit comments by facsimile at (202) 260-4560.

View the Commission's Web site at: http://www.ed.gov/inits/commissionsboards/athletics. The Commission office number is 202-708-7417.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html.

Dated: January 17, 2003.
Rod Paige,
Secretary of Education.

[FR Doc. 03-1533 Filed 1-22-03; 8:45 am]

BILLING CODE 4000-01-P